DEPARTMENT OF TRANSPORTATION

National Highway Traffic Safety Administration

[Docket No. NHTSA-2021-0040; Notice 1]

Toyota Motor North America, Inc., Receipt of Petitions for Decision of Inconsequential Noncompliance

AGENCY: National Highway Traffic Safety Administration (NHTSA), Department of Transportation (DOT).

ACTION: Receipt of petitions.

SUMMARY: Toyota Motor North America, Inc. (TMNA) on behalf of Toyota Motor Corporation (TMC) (collectively referred to as “Toyota”) has determined that certain replacement seat belt assemblies manufactured by Marutaka, Tokai Rika Japan, Autoliv, NSK, Joyson Safety Systems Acquisition, TRQSS, Key Safety Restraint Systems, Inc., Tokai Rika Czech, BMW Group Headquarters, Subaru Corporation, and Mazda North America Operations, and sold to Toyota dealerships as replacement equipment do not fully comply with Federal Motor Vehicle Safety Standard (FMVSS) No. 209, Seat Belt Assemblies. Toyota filed three noncompliance reports, two dated April 20, 2021, and the other dated May 4, 2021. Toyota subsequently submitted two petitions to NHTSA both dated May 14, 2021, for a decision that the subject noncompliances are inconsequential as they relate to motor vehicle safety. This notice announces receipt of Toyota's petitions.

DATES: Send comments on or before March 2, 2022.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petitions are granted or denied, notice of the decisions will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Jack Chern, Office of Vehicle Safety Compliance, the National Highway Traffic Safety Administration (NHTSA), telephone (202) 366-0661.

SUPPLEMENTARY INFORMATION:

I. Overview

Toyota has determined that certain replacement seat belt assemblies manufactured by Marutaka, Tokai Rika Japan, Autoliv, NSK, Joyson Safety Systems Acquisition, TRQSS, Key Safety Restraint Systems, Inc., Tokai Rika Czech, BMW Group Headquarters, Subaru Corporation, and Mazda North America Operations, and sold to Toyota dealerships as replacement equipment do not fully comply with the requirements of paragraph S4.1(k) and (l) of FMVSS No. 209, Seat Belt Assemblies (49 CFR 571.209). Toyota filed three noncompliance reports, two dated April 20, 2021, and the other dated May 4, 2021, pursuant to 49 CFR part 573, Defect and Noncompliance Responsibility and Reports. Toyota subsequently submitted two petitions to NHTSA both dated May 14, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Toyota's petitions is published under 49 U.S.C. 30118 and 30120 and does not represent any Agency decision or other exercise of judgment concerning the merits of the petition.

II. Equipment Involved

Potentially involved seat belt assemblies are as follows:

1. Approximately 33,000 replacement seat belt assemblies manufactured by Marutaka and Tokai Rika Japan between November 1, 1995, and February 28, 2021;

2. approximately 1,400,000 replacement seat belt assemblies manufactured by Marutaka, Tokai Rika Japan, Autoliv, NSK, Joyson Safety Systems Acquisition, TRQSS, Key Safety Restraint Systems, Inc., and Tokai Rika Czech between October 1, 1994, and February 28, 2021; and

3. approximately 6,160 replacement seat belt assemblies manufactured by BMW Group Headquarters, Subaru Corporation, Mazda North America Operations between March 1, 2012, and April 30, 2021.

III. Noncompliance

Toyota explains that the noncompliance involves replacement seat belt assemblies manufactured by Marutaka, Tokai Rika Japan, Autoliv, NSK, Joyson Safety Systems Acquisition, TRQSS, Key Safety Restraint Systems, Inc., Tokai Rika Czech, BMW Group Headquarters, Subaru Corporation, and Mazda North America Operations, and sourced to Toyota dealerships for use or subsequent resale to dealership customers as replacement equipment do not fully comply with all applicable requirements specified in paragraph S4.1(k) and (l) of FMVSS No. 209.

Specifically, the items of noncompliant equipment involved are:

(1) Certain replacement seat belt assemblies, manufactured by Marutaka and Tokai Rika Japan, were packaged with an instruction sheet that was missing the following required statement: “This seat belt assembly is for use only in [insert specific seating position(s), e.g., “front right”] in [insert specific vehicle make(s) and model(s)],” or packaged with an instruction sheet that specified the wrong seating position;

(2) certain replacement seat belt assemblies, manufactured by Marutaka, Tokai Rika Japan, Autoliv, NSK, Joyson Safety Systems Acquisition, TRQSS, Key Safety Restraint Systems, Inc., and Tokai Rika Czech, were packaged with an instruction sheet that was missing the aforementioned seating position(s) statement; and

(3) certain replacement seat belt assemblies, manufactured by BMW Group Headquarters, Subaru Corporation, and Mazda North America Operations, were packaged with an instruction sheet that was also missing the required seating position(s) statement, or packaged without the required usage and maintenance instructions.

IV. Rule Requirements

Paragraphs S4.1(k) and (l) of FMVSS No. 209 include the requirements relevant to this petition. Paragraph S4.1(k) requires that a seat belt assembly, other than a seat belt assembly installed in a motor vehicle by an automobile manufacturer, shall be accompanied by an instruction sheet providing sufficient information for installing the assembly in a motor vehicle. If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

Paragraph S4.1(l) requires that a seat belt assembly or retractor shall be accompanied by written instructions for the proper use of the assembly, stressing particularly the importance of wearing the assembly snugly and properly located on the body, and on the maintenance of the assembly and periodic inspection of all components.

V. Summary of Toyota's Petition

The following views and arguments presented in this section, “V. Summary of Toyota's Petition,” are the views and arguments provided by Toyota. They have not been evaluated by the Agency and do not reflect the views of the Agency. Toyota described the subject noncompliance and stated their belief that the noncompliance is inconsequential as it relates to motor vehicle safety.

In support of its petition, Toyota submitted the following reasoning:

1. The subject seat belt assemblies were sold only by Toyota dealerships. Due to the dealerships' replacement parts ordering system and the parts packaging, improper replacement seat belt assembly selection would not likely occur.

Toyota states that it is unlikely that the subject replacement seat belt assemblies would be selected for an incorrect model and seating position as a result of this issue. The subject assemblies were only sold by Toyota dealerships. The parts ordering system clearly indicates the part and enables identification of the appropriate model vehicle and seating position for which the assembly is intended to be installed. When selecting a replacement part, the dealerships can search by Vehicle Identification Number, part number, and vehicle model. They can also see a diagram of the part location via the Electronic Parts Catalog. In addition, the part can be identified by the label on the packaging and the old part can be compared to the new part. The label on the packaging in which the replacement seat belt is packaged specifies the part number and part description.

Toyota says that because of the Toyota dealerships' robust part ordering system and the additional label on the packaging, it is unlikely that an incorrect seat belt would be provided or used as a replacement part. The missing instruction sheet, missing seating position, or incorrect seat position on the instruction sheet has no effect on a dealership's ability to provide the correct replacement part ordered or on the installer's ability to correctly identify the appropriate replacement part.

2. The improper installation of the seat belt assembly is unlikely. Dealership technicians and third-party installers can access Toyota's electronic repair manual and other aftermarket manuals and the subject assemblies themselves have characteristics that discourage incorrect installation.

Toyota contends that it is unlikely that an improper installation of a replacement seat belt would occur as a result of a missing instruction sheet or an instruction sheet that does not indicate the specific seating position information.

First, after identifying that the part does not have an installation instruction sheet, does not specify the specific seating position, or specifies the wrong seating position for which the part was purchased, the installer could return the part to the dealer, request the installation instruction from the dealer, or consult other sources of installation instructions that are readily available. Technicians at Toyota dealerships have access to Toyota's electronic repair manual. Third-party installers have access to various aftermarket repair manuals and can obtain access to Toyota's electronic repair manual. The installer can also request a copy of the installation instructions from Toyota, and the instructions would be provided free of charge.

Second, the subject assemblies themselves have characteristics that discourage incorrect installation. These characteristics include the appearance being visually different, an inability to connect the wire harness, the warning indicator becoming illuminated, or the seat belt being unable to buckle. Because the subject seat belts are not universal type seat belts, they are intended to be used to replace specific seat belts in specific seating positions. It is unlikely that these replacement assemblies would be installed incorrectly.

Third, the torque value for structurally mounting the seat belt assemblies is a standard value and is correct regardless of which instruction sheet is used (42Nm). Because these torque values are common, even if the technician uses the torque values from the incorrect installation instruction sheet, the torque value will still be correct.

For these reasons, Toyota believes it is unlikely that the subject seat belt assemblies would be improperly installed.

Toyota notes that the investigation leading to the submission of the part 573 reports subject of this petition was prompted by a report from a dealer technician who found a seat belt assembly with an incorrect instruction sheet. While records covering the entire scope of the seat belt assemblies involved are not available, Toyota believes this to be the only report of an instruction sheet concern. This further tends to confirm that improper installation of a seat belt assembly is unlikely as a result of the missing installation information, and dealer technicians or third-party installers are able to easily obtain the installation information, if needed, from the other sources noted above free of charge.

3. The replacement seat belt assemblies are intended to replace the original equipment seat belts. The owner's manual for each vehicle contains the seat belt usage and maintenance instructions.

Toyota states that it is unlikely that improper use or maintenance of a replacement seat belt would occur because of the missing usage and maintenance instructions. The affected seat belt assemblies are designed to replace the originally equipped seat belts in specific Toyota vehicles. All of the vehicle models for which these replacement seat assemblies were designed were originally equipped with an owner's manual that contains usage and maintenance instructions for these seat belt assemblies. Thus, the vehicle owner has access to the usage and maintenance instructions and would not need to refer to the instruction sheet for this information. In addition, the seat belts packaged with sheets that are only missing the specific seating position information have the correct usage and maintenance instructions.

4. The seat belts comply with all other requirements of FMVSS No. 209.

Toyota says the lack of information on the instruction sheets has no bearing on the materials or performance of the replacement seat belt assembly itself. Thus, the assemblies continue to meet the other performance requirements specified in FMVSS No. 209. There is no impact to performance, functionality, or occupant safety.

5. In similar situations, NHTSA has granted petitions for inconsequential noncompliance relating to the subject requirement of FMVSS No. 209.

Toyota states that NHTSA has previously granted at least seven similar inconsequentiality petitions for noncompliances that it contends are similar to the subject noncompliance. These include: FCA US LLC (84 FR 20948, May 3, 2019); Mitsubishi Motors North America, Inc., (77 FR 24762, April 25, 2012); Bentley Motors, Inc. (76 FR 58343, September 20, 2011); Hyundai Motor Company (74 FR 9125, March 2, 2009); Ford Motor Company, (73 FR 11462, March 3, 2008); Mazda North American Operations (73 FR 11464, March 3, 2008); and Subaru of America, Inc. (65 FR 67471, November 9, 2000).

In these cases, Toyota argues, NHTSA determined that the noncompliance was inconsequential to motor vehicle safety for reasons that included the following: (1) The dealer ordering system would make it unlikely that an inappropriate seat belt assembly would be sold for a specific seating position; (2) installers would be able to locate installation instructions from other sources; (3) the usage and maintenance instructions are available in the vehicles owner's manual; and (4) the seat belts are intended to be replacement parts for original equipment designed for specific seating positions. These reasons also apply to the subject Toyota replacement seat belt assemblies.

Toyota's complete petition and all supporting documents are available by logging onto the Federal Docket Management System (FDMS) website at https://www.regulations.gov and by following the online search instructions to locate the docket number as listed in the title of this notice.

Toyota concluded that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the equipment that Toyota no longer controlled at the time it determined that the noncompliance existed. However, any decision on this petition does not relieve equipment distributors and dealers of the prohibitions on the sale, offer for sale, or introduction or delivery for introduction into interstate commerce of the noncompliant replacement seat belt assemblies under their control after Toyota notified them that the subject noncompliance existed.

(Authority: 49 U.S.C. 30118, 30120: delegations of authority at 49 CFR 1.95 and 501.8)

Otto G. Matheke, III,
Director, Office of Vehicle Safety Compliance.

[FR Doc. 2022-01827 Filed 1-28-22; 8:45 am]

BILLING CODE 4910-59-P